DEPARTMENT OF AGRICULTURE

USDA Public Stakeholder Meeting: Match Making in the Biofuels Value Chain

AGENCY: Office of the Chief Economist, USDA.

ACTION: Notice of meeting.

SUMMARY: The United States Department of Agriculture (USDA) is hosting a match making day at the USDA, to promote the necessary connections between agricultural producers of energy feedstocks (and their related businesses) with biorefiners seeking to produce biofuels for commercial sale and consumption. Officials from the U.S. Department of Navy, U.S. Department of Energy, and the U.S. Department of Transportation will also be attending, making presentations and answering questions. The objectives of this match making session will be to improve awareness and increase understanding of the biofuels supply chain links between all those involved in feedstock production and the processors of that feedstock into biofuels. This includes logistical challenges, potential roles of ancillary service providers, and potential pitfalls and blindspots. At this meeting, federal officials will provide a short profile of each section of the supply chain and representatives from the participating stakeholders will respond with short formal presentations that outline their experiences in that respective supply chain sector, barriers and lessons learned, and potential growth and opportunities. Short presentations will be made at the top of each hour followed by table discussions, at which a representative from each of the sectors of the biofuels supply chain should be seated, as well as one or more government officials.

DATES: The meeting will be held on March 30, 2012, from 10 a.m. to 5 p.m. Attendees are requested to arrive by 9:30 a.m. in order to pass through USDA's security clearance.

ADDRESSES: Patio, United States Department of Agriculture Whitten Building, 1400 Independence Avenue SW, Washington, DC 20250.

FOR FURTHER INFORMATION CONTACT: Harry S. Baumes, Director, Office of Energy Policy and New Uses, Office of the Chief Economist; telephone (202) 401-0461; or email: hbaumes@oce.usda.gov.

SUPPLEMENTARY INFORMATION: In order to assure sufficient space and seating, prospective attendees are asked to register by sending an email to OSEC-RESupplyChain@osec.usda.gov: identify as the Subject “MARCH 30 REGISTRATION”; and include the following information:

Name of the Company:

Name and Title of Attendees:

Address:

Phone number:

Email:

Web site:

Please Describe Your Position on the Biofuels Production Value Chain: (feedstock seed developer or provider, feedstock grower or harvester, feedstock processor, feedstock transporter, feedstock storage provider, bio-refiner, feedstock machinery manufacturer/provider, other).

Signed in Washington, DC on March 19, 2012.
Joseph W. Glauber,
Chief Economist, Office of the Chief Economist, Department of Agriculture.

[FR Doc. 2012-7021 Filed 3-22-12; 8:45 am]

BILLING CODE 3410-38-P